FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 1, 2011.

A. Federal Reserve Bank of St. Louis (Glenda Wilson, Community Affairs Officer) P.O. Box 442, St. Louis, Missouri 63166-2034:

1. The Coffey Family Control Group, which consists of Avery Coffey; Carla Coffey; Briley N. Coffey; James Coffey; Harold P. Coffey, Jr.; Jill Coffey; Brooke Coffey; James Benjamin Coffey; Jentrie Coffey; and Sue Werner, all in Hickman, Kentucky; and Patsy Campbell, Fulton, Kentucky; to retain control of Citizens Bancorp of Hickman, Inc., and thereby indirectly retain control of The Citizens Bank, both in Hickman, Kentucky.

B. Federal Reserve Bank of Minneapolis (Jacqueline G. King, Community Affairs Officer) 90 Hennepin Avenue, Minneapolis, Minnesota 55480-0291:

1. Noah W. Wilcox, as an individual and as trustee of The Noah W. Wilcox Trust, both in Grand Rapids, Minnesota, and both as members of The Wilcox Family Control Group; to acquire control of Wilcox Bancshares, Inc., and thereby indirectly acquire control of Grand Rapids State Bank, both in Grand Rapids, Minnesota.

Board of Governors of the Federal Reserve System, January 11, 2011.
Robert deV. Frierson,
Deputy Secretary of the Board.

[FR Doc. 2011-751 Filed 1-13-11; 8:45 am]

BILLING CODE 6210-01-P